FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201260-002.

Agreement Name: Ocean Network Express Pte. Ltd. (ONE)/NYK Bulk & Projects Carriers Ltd. Slot Charter Agreement.

Parties: Ocean Network Express Pte. Ltd. and NYK Bulk & Project Carriers Ltd.

Filing Party: Carrol Hand; Ocean Network Express.

Synopsis: The amendment extends the geographic scope of the agreement and allows for space allocation on an as needed/as available basis.

Proposed Effective Date: 10/20/2018.

Location: https://www2.fmc.gov/FMC.Agreements.Web/Public/AgreementHistory/13191.

Agreement No.: 201272.

Agreement Name: KYOWA/CNCo Pacific—Asia Slot Charter Agreement.

Parties: Kyowa Shipping Co.,, Ltd. and The China Navigation Co. Pte. Ltd.

Filing Party: Conte Cicala; Clyde & Co. US LLP.

Synopsis: The Agreement authorizes KYOWA to charter space to CNCo on certain vessels KYOWA operates and authorizes CNCo to charter space to KYOWA on certain vessels CNCo operates between and among various foreign ports and Pago Pago, American Samoa.

Proposed Effective Date: 9/12/2018.

Location: https://www2.fmc.gov/FMC.Agreements.Web/Public/AgreementHistory/16283.

Dated: September 13, 2018.
Rachel E. Dickon,
Secretary.

[FR Doc. 2018-20219 Filed 9-17-18; 8:45 am]

BILLING CODE 6731-AA-P